DEPARTMENT OF TRANSPORTATION

Federal Aviation Administration

14 CFR Part 39

[Docket No. FAA-2012-0108; Directorate Identifier 2011-NM-049-AD; Amendment 39-18215; AD 2015-15-06]

RIN 2120-AA64

Airworthiness Directives; The Boeing Company Airplanes

AGENCY: Federal Aviation Administration (FAA), DOT.

ACTION: Final rule.

SUMMARY: We are superseding Airworthiness Directive (AD) 2003-13-01 for certain The Boeing Company Model 767 airplanes. AD 2003-13-01 required an inspection to detect cracks and fractures of the outboard hinge fitting assemblies on the trailing edge of the inboard main flap, and follow-on and corrective actions if necessary. For certain airplanes, AD 2003-13-01 required an inspection to determine if a tool runout option has been performed in the area. This new AD reduces certain compliance times, adds airplanes to the applicability, and provides optional terminating action for certain inspections. This AD was prompted by reports of hinge assembly fractures found before certain required compliance times in AD 2003-13-01. We are issuing this AD to prevent the inboard aft flap from separating from the wing and potentially striking the airplane, which could result in damage to the surrounding structure and potential personal injury.

DATES: This AD is effective November 13, 2015.

The Director of the Federal Register approved the incorporation by reference of certain publications listed in this AD as of November 13, 2015.

The Director of the Federal Register approved the incorporation by reference of certain other publications listed in this AD as of July 29, 2003 (68 FR 37402, June 24, 2003).

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221. It is also available on the Internet at https://www.regulations.gov by searching for and locating Docket No. FAA-2012-0108.

Examining the AD Docket

You may examine the AD docket on the Internet at http://www.regulations.gov by searching for and locating Docket No. FAA-2012-0108; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Wayne Lockett, Aerospace Engineer, Airframe Branch, ANM-120S, FAA, Seattle Aircraft Certification Office (ACO), 1601 Lind Avenue SW., Renton, WA 98057-3356; phone: 425-917-6447; fax: 425-917-6590; email: wayne.lockett@faa.gov.

SUPPLEMENTARY INFORMATION:

Discussion

We issued a supplemental notice of proposed rulemaking (SNPRM) to amend 14 CFR part 39 to supersede AD 2003-13-01, Amendment 39-13201 (68 FR 37402, June 24, 2003). AD 2003-13-01 applied to certain The Boeing Company Model 767 airplanes. The SNPRM published in the Federal Register on September 29, 2014 (79 FR 58294). We preceded the SNPRM with a notice of proposed rulemaking (NPRM) that published in the Federal Register on February 9, 2012 (77 FR 6685). The NPRM proposed to continue to require an inspection to detect cracks and fractures of the outboard hinge fitting assemblies on the trailing edge of the inboard main flap, and follow-on and corrective actions if necessary. For certain airplanes, the NPRM proposed to continue to require inspecting to determine if a tool runout option has been performed in the area. The NPRM also proposed to reduce a certain compliance time and add airplanes to the applicability. The NPRM provided optional terminating action for certain inspections. The NPRM was prompted by reports of hinge assembly fractures found before certain required compliance times in AD 2003-13-01. The SNPRM revised the NPRM by reducing repetitive inspection intervals for certain airplanes and limiting the inspection area. We are issuing this AD to prevent the inboard aft flap from separating from the wing and potentially striking the airplane, which could result in damage to the surrounding structure and potential personal injury.

Comments

We gave the public the opportunity to participate in developing this AD. The following presents the comments received on the SNPRM (79 FR 58294, September 29, 2014) and the FAA's response to each comment.

Support for the SNPRM (79 FR 58294, September 29, 2014)

Boeing concurred with the contents of the SNPRM (79 FR 58294, September 29, 2014).

Requests To Remove Certain Provisions for Spare Parts

American Airlines and UPS requested that we revise the SNPRM (79 FR 58294, September 29, 2014) by removing paragraph (q), because its provisions are redundant with the requirements of paragraph (k) of the SNPRM.

We agree with the requests, for the reason provided by the commenters. We have removed the referenced paragraph and redesignated subsequent paragraphs accordingly.

Request To Clarify Replacement Requirements

American Airlines requested that we revise the SNPRM (79 FR 58294, September 29, 2014) to identify the part numbers for fittings that are acceptable for terminating action, but to not require specific removal and reinstallation procedures. The commenter added that the design change of the fitting—not the installation method—corrects the unsafe condition.

We partially agree with the request. Although we did not identify the part numbers, we revised paragraph (o) in this AD to specify only the specific step that provides the replacement instructions and identifies the part number of the new fittings. Other removal and reinstallation actions related to the fitting replacement may be done using accepted methods in accordance with the operator's maintenance or inspection program.

We disagree with American Airlines' assertion that only the fitting design “corrects the unsafe condition.” ADs contain requirements that are related to addressing the unsafe condition, as determined by the FAA and the design approval holder that developed the service information. Therefore, many provisions of ADs address aspects of accomplishing the required maintenance that are necessary to prevent operators from inadvertently aggravating the unsafe condition or introducing new unsafe conditions. As in this case, the replacement instructions provided in the referenced service information are reasonably related to addressing the unsafe condition.

As always, operators preferring to use a method other than that specified in the referenced service information may request approval for an alternative method of compliance and, if approved, may use it instead of the procedures specified in the service information.

We further clarified this action throughout this AD by revising the description of the replacement part by specifying “the inboard main flap outboard hinge fittings.”

Effect of Winglets on AD

Aviation Partners Boeing, United Airlines, Delta Air Lines, and UPS requested that the SNPRM (79 FR 58294, September 29, 2014) specify that accomplishment of supplemental type certificate (STC) ST01920SE (http://rgl.faa.gov/Regulatory_and_Guidance_Library/rgstc.nsf/0/59027f43b9a7486e86257b1d006591ee/$FILE/ST01920SE.pdf) does not affect the actions in the SNPRM.

We concur with the request. We have redesignated the introductory text of paragraph (c) of the SNPRM (79 FR 58294, September 29, 2014) as paragraph (c)(1), and subparagraphs (c)(1) and (c)(2) as (c)(1)(i) and (c)(1)(ii), and added new paragraph (c)(2) to this AD to state that installation of STC ST01920SE (http://rgl.faa.gov/Regulatory_and_Guidance_Library/rgstc.nsf/0/59027f43b9a7486e86257b1d006591ee/$FILE/ST01920SE.pdf) does not affect the ability to accomplish the actions required by this final rule. Therefore, for airplanes on which STC ST01920SE is installed, a “change in product” alternative method of compliance (AMOC) approval request is not necessary to comply with the requirements of 14 CFR 39.17.

Change of Location for Certain Credit Service Information

We have removed Boeing Alert Service Bulletin 767-57A0079, Revision 1, dated May 6, 2010, which is referred to for credit for certain actions, from paragraph (g)(2) of the proposed AD. Instead, we have revised paragraph (p)(1) of this AD to specifically provide credit for actions required by paragraph (g)(2) of this AD, if those actions were performed before the effective date of this AD using Boeing Alert Service Bulletin 767-57A0079, Revision 1, dated May 6, 2010. We have redesignated subsequent paragraphs (including the addition of new paragraph (p)(3)) accordingly. This change does not affect the intent of paragraph (g)(2) of this AD.

Change to Retained Credit for Previous Actions Language

We have revised the wording in paragraph (l) of this AD; this change has not changed the intent of that paragraph.

Change to Previous AMOCs Paragraph

We have added a reference to paragraph (j) of this AD in paragraph (q)(4) of this AD to account for any AMOCs that might have been approved for the optional action specified in paragraph (j) of this AD.

Conclusion

We reviewed the relevant data, considered the comments received, and determined that air safety and the public interest require adopting this AD with the changes described previously and minor editorial changes. We have determined that these minor changes:

• Are consistent with the intent that was proposed in the SNPRM (79 FR 58294, September 29, 2014) for correcting the unsafe condition; and

• Do not add any additional burden upon the public than was already proposed in the SNPRM (79 FR 58294, September 29, 2014).

We also determined that these changes will not increase the economic burden on any operator or increase the scope of this AD.

Related Service Information Under 1 CFR Part 51

We reviewed Boeing Alert Service Bulletin 767-57A0079, Revision 2, dated March 23, 2012; and Boeing Alert Service Bulletin 767-57A0076, Revision 3, dated April 4, 2012. The service information describes procedures for repetitive eddy current inspections for cracks or fractures of the outboard hinge fitting assemblies on the trailing edge of the inboard main flap. The service information also describes procedures for replacing the fittings, which would eliminate the need for the repetitive inspections. This service information is reasonably available because the interested parties have access to it through their normal course of business or by the means identified in the ADDRESSES section of this final rule.

Costs of Compliance

We estimate that this AD affects 440 airplanes of U.S. registry. We estimate the following costs to comply with this AD:

Estimated Costs
Action | Labor cost | Parts cost | Cost per product | Cost on U.S. operators
Retained detailed inspections | 10 work-hours × $85 per hour = $850 per inspection cycle | $0 | $850 per inspection cycle | $374,000 per inspection cycle.
Retained detailed and eddy current inspections | 13 work-hours × $85 per hour = $1,105 per inspection cycle | 0 | $1,105 per inspection cycle | $486,200 per inspection cycle.

We estimate the following costs to do any necessary replacements that would be required based on the results of the inspection. We have no way of determining the number of airplanes that might need these replacements:

On-Condition Costs
Action | Labor cost | Parts cost | Cost per product
Replacement | 32 work-hours × $85 per hour = $2,720 | $45,400 | $48,120

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2003-13-01, Amendment 39-13201 (68 FR 37402, June 24, 2003), and adding the following new AD:

2015-15-06 The Boeing Company: Amendment 39-18215; Docket No. FAA-2012-0108; Directorate Identifier 2011-NM-049-AD.

(a) Effective Date

This AD is effective November 13, 2015.

(b) Affected ADs

This AD replaces AD 2003-13-01, Amendment 39-13201 (68 FR 37402, June 24, 2003).

(c) Applicability

(1) This AD applies to The Boeing Company airplanes, certificated in any category, identified in paragraphs (c)(1)(i) and (c)(1)(ii) of this AD.

(i) Model 767-200, -300, and -300F series airplanes, as specified in Boeing Alert Service Bulletin 767-57A0076, Revision 3, dated April 4, 2012.

(ii) Model 767-400ER series airplanes, as specified in Boeing Alert Service Bulletin 767-57A0079, Revision 2, dated March 23, 2012.

(2) Installation of Supplemental Type Certificate (STC) ST01920SE (http://rgl.faa.gov/Regulatory_and_Guidance_Library/rgstc.nsf/0/59027f43b9a7486e86257b1d006591ee/$FILE/ST01920SE.pdf) does not affect the ability to accomplish the actions required by this AD. Therefore, for airplanes on which STC ST01920SE is installed, a “change in product” alternative method of compliance (AMOC) approval request is not necessary to comply with the requirements of 14 CFR 39.17.

(d) Subject

Air Transport Association (ATA) of America Code 57, Wings.

(e) Unsafe Condition

This AD was prompted by reports of hinge assembly fractures found before certain required compliance times on airplanes subject to AD 2003-13-01, Amendment 39-13201 (68 FR 37402, June 24, 2003). We are issuing this AD to prevent the inboard aft flap from separating from the wing and potentially striking the airplane, which could result in damage to the surrounding structure and potential personal injury.

(f) Compliance

Comply with this AD within the compliance times specified, unless already done.

(g) Retained Inspection, With Revised Service Information

This paragraph restates the requirements of paragraph (a) of AD 2003-13-01, Amendment 39-13201 (68 FR 37402, June 24, 2003), with revised service information. Perform either a detailed inspection, or a detailed inspection plus an eddy current inspection, of the outboard hinge fitting assemblies on the trailing edge of the inboard main flap to detect cracks and fractures and evidence of a tool runout option, as applicable. For the purposes of this AD, a detailed inspection is defined as an intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.

(1) For Model 767-200, -300, and -300F series airplanes identified in Boeing Service Bulletin 767-57A0076, Revision 1, dated March 29, 2001: Inspect before the airplane accumulates 2,700 total flight cycles, or within 90 days after July 29, 2003 (the effective date of AD 2003-13-01, Amendment 39-13201 (68 FR 37402, June 24, 2003)), whichever occurs later, in accordance with Boeing Service Bulletin 767-57A0076, Revision 1, dated March 29, 2001; or the Accomplishment Instructions of Boeing Alert Service Bulletin 767-57A0076, Revision 3, dated April 4, 2012. As of the effective date of this AD, only Boeing Service Bulletin 767-57A0076, Revision 3, dated April 4, 2012, may be used for the inspection.

(2) For Model 767-400ER series airplanes identified in Boeing Alert Service Bulletin 767-57A0079, dated June 20, 2002: Inspect before the airplane accumulates 12,000 total flight cycles, except as required by paragraph (m) of this AD, in accordance with Boeing Alert Service Bulletin 767-57A0079, dated June 20, 2002; or the Accomplishment Instructions of Boeing Alert Service Bulletin 767-57A0079, Revision 2, dated March 23, 2012. As of the effective date of this AD, only Boeing Alert Service Bulletin 767-57A0079, Revision 2, dated March 23, 2012, may be used for the inspection.

(h) Retained Follow-On/Corrective Actions, With Revised Service Information

This paragraph restates the requirements of paragraph (b) of AD 2003-13-01, Amendment 39-13201 (68 FR 37402, June 24, 2003), with revised service information. Following the initial inspections required by paragraph (g) of this AD, perform applicable follow-on and corrective actions at the times specified in Figure 1 of Boeing Service Bulletin 767-57A0076, Revision 1, dated March 29, 2001 (for Model 767-200, -300, and -300F series airplanes); or Boeing Alert Service Bulletin 767-57A0079, dated June 20, 2002 (for Model 767-400ER series airplanes); until the initial inspection required by paragraph (n) of this AD is accomplished, and repeat thereafter at the applicable times specified in paragraph (n) of this AD. Do the follow-on and corrective actions (including repetitive inspections and replacement of the fittings with new fittings) in accordance with Part 1 or Part 2 of Boeing Service Bulletin 767-57A0076, Revision 1, dated March 29, 2001; or Boeing Alert Service Bulletin 767-57A0079, dated June 20, 2002; or in accordance with the Accomplishment Instructions of the service information identified in paragraph (h)(1) or (h)(2) of this AD; except as required by paragraph (i)(2) of this AD. For Model 767-200, -300, and -300F series airplanes: If the fitting has the tool runout, and no cracking or fracture is found during the inspection, this AD requires no further action for that hinge fitting. As of the effective date of this AD, for the actions required by this paragraph, only the service information identified in paragraph (h)(1) or (h)(2) of this AD, as applicable, may be used.

(1) Boeing Service Bulletin 767-57A0076, Revision 3, dated April 4, 2012 (for Model 767-200, -300, and -300F series airplanes).

(2) Boeing Alert Service Bulletin 767-57A0079, Revision 2, dated March 23, 2012 (for Model 767-400ER series airplanes).

(i) Retained Exceptions to Service Bulletin Procedures, Without the Reporting Requirement and With Revised Service Information

This paragraph restates the requirements of paragraphs (c) and (d) of AD 2003-13-01, Amendment 39-13201 (68 FR 37402, June 24, 2003), without the reporting requirement and with revised service information. The following exceptions specified in paragraphs (i)(1) and (i)(2) of this AD apply.

(1) Where the terminating action in Part 3 of Boeing Service Bulletin 767-57A0076, Revision 1, dated March 29, 2001, and Revision 3, dated April 4, 2012; and Boeing Alert Service Bulletin 767-57A0079, dated June 20, 2002, and Revision 2, dated March 23, 2012; as applicable; is specified as corrective action, this AD requires that the terminating action, if required, be accomplished before further flight.

(2) Boeing Service Bulletin 767-57A0076, Revision 1, dated March 29, 2001; and Boeing Alert Service Bulletin 767-57A0076, Revision 3, dated April 4, 2012; specify to contact Boeing before the terminating action is done as corrective action for any cracking or fracture found on a Model 767-200, -300, or -300F series airplane with the tool runout. However, this AD requires that any such crack or fracture on those airplanes be repaired in accordance with Part 3 of Boeing Service Bulletin 767-57A0076, Revision 1, dated March 29, 2001; or the Accomplishment Instructions of Boeing Alert Service Bulletin 767-57A0076, Revision 3, dated April 4, 2012. This AD does not require a report.

(j) Retained Optional Terminating Action

This paragraph restates the provisions of paragraph (f) of AD 2003-13-01, Amendment 39-13201 (68 FR 37402, June 24, 2003). Unless required to do so by paragraph (h) of this AD, operators may choose to accomplish the terminating action (including replacement of the fittings with new fittings, and reinstallation of existing upper skin access panels and fairing midsections on the trailing edge of the main flap) in accordance with Part 3 of the Work Instructions of Boeing Service Bulletin 767-57A0076, Revision 1, dated March 29, 2001; or Boeing Alert Service Bulletin 767-57A0079, dated June 20, 2002; as applicable; or do the terminating actions specified in paragraph (o) of this AD. As of the effective date of this AD, use only the terminating action specified in paragraph (o) of this AD. Accomplishment of the terminating action terminates the repetitive inspection requirements of paragraph (h) of this AD.

(k) Parts Installation Limitations

As of the effective date of this AD, no person may install on any airplane identified in paragraph (c) of this AD, a hinge fitting assembly that has part number (P/N) 113T2271-13, 113T2271-14, 113T2271-23, 113T2271-24, 113T2271-29, 113T2271-30, 113T2271-33, 113T2271-34, 113T2271-401, or 113T2271-402, unless the applicable requirements of this AD have been accomplished for that fitting.

(l) Retained Credit for Previous Actions, With Revised Credit Provisions

This paragraph restates the provisions of paragraph (g) of AD 2003-13-01, Amendment 39-13201 (68 FR 37402, June 24, 2003), with revised credit provisions. This paragraph provides credit for actions required by paragraphs (g)(1), (h), and (j) of this AD, if those actions were performed before July 29, 2003 (the effective date of AD 2003-13-01), using Boeing Alert Service Bulletin 767-57A0076, dated October 26, 2000, which is not incorporated by reference in this AD.

(m) New Initial Inspection

For Model 767-400ER airplanes identified in Boeing Alert Service Bulletin 767-57A0079, Revision 2, dated March 23, 2012, on which the inspection required in paragraph (g) of this AD has not been done as of the effective date of this AD: Before the accumulation of 6,000 total flight cycles, or within 750 flight cycles after the effective date of this AD, whichever occurs later, perform either a detailed inspection or a detailed inspection plus an eddy current inspection to detect cracks or fractures of the outboard hinge fitting assemblies on the trailing edge of the inboard main flap, in accordance with the Accomplishment Instructions of Boeing Alert Service Bulletin 767-57A0079, Revision 2, dated March 23, 2012. Accomplishment of this inspection terminates the inspection requirement of paragraph (g)(2) of this AD. If any cracking or fracture is found, before further flight, replace the fittings in accordance with Part 3 of the Work Instructions of the Accomplishment Instructions of Boeing Alert Service Bulletin 767-57A0079, Revision 2, dated March 23, 2012.

(n) New Repetitive Inspections

Repeat the inspection specified in paragraph (h) or (m) of this AD, as applicable, at intervals not to exceed the time specified in paragraph (n)(1) or (n)(2) of this AD, as applicable, in accordance with the Accomplishment Instructions of Boeing Alert Service Bulletin 767-57A0076, Revision 3, dated April 4, 2012 (for Model 767-200, -300, and -300F series airplanes); or Boeing Alert Service Bulletin 767-57A0079, Revision 2, dated March 23, 2012 (for Model 767-400ER series airplanes); until the actions specified in paragraph (o) of this AD are done.

(1) If the most recent inspection was a detailed inspection: Do the next inspection within 300 flight cycles after doing the detailed inspection, and continue to repeat the inspection(s) thereafter at the time specified in paragraph (n) of this AD.

(2) If the most recent inspections were a detailed inspection and an eddy current inspection: Do the next inspections at the applicable time specified in paragraph (n)(2)(i) or (n)(2)(ii) of this AD, and continue to repeat the inspection(s) thereafter at the time specified in paragraph (n) of this AD.

(i) For Model 767-200, -300, and -300F series airplanes: Do the next inspection at the applicable time specified in paragraph (n)(2)(i)(A) or (n)(2)(i)(B) of this AD.

(A) If the detailed inspection and eddy current inspection were done before the effective date of this AD: Do the next inspection within 1,500 flight cycles after doing the detailed and eddy current inspections.

(B) If the detailed inspection and eddy current inspection were done on or after the effective date of this AD: Do the next inspection within 750 flight cycles after doing the detailed and eddy current inspection.

(ii) For Model 767-400ER series airplanes: Do the next inspection within 750 flight cycles after doing the detailed inspection and eddy current inspection.

(o) New Optional Terminating Action

Replacement of the inboard main flap outboard hinge fittings in accordance with step 4 of Part 3 of the Work Instructions of the Accomplishment Instructions of Boeing Alert Service Bulletin 767-57A0079, Revision 2, dated March 23, 2012 (for Model 767-400ER series airplanes); or step 4 of Part 3 of the Work Instructions of the Accomplishment Instructions of Boeing Alert Service Bulletin 767-57A0076, Revision 3, dated April 4, 2012 (for Model 767-200, -300, and -300F series airplanes); terminates the repetitive inspections required by paragraphs (h) and (n) of this AD.

(p) Credit for Previous Actions

(1) This paragraph provides credit for actions required by paragraph (g)(2) of this AD, if those actions were performed before the effective date of this AD using Boeing Alert Service Bulletin 767-57A0079, Revision 1, dated May 6, 2010, which is not incorporated by reference in this AD.

(2) This paragraph provides credit for actions required by paragraphs (h), (n), and (o) of this AD, if those actions were performed before the effective date of this AD using the service information identified in paragraph (p)(2)(i), (p)(2)(ii), (p)(2)(iii), or (p)(2)(iv) of this AD.

(i) Boeing Alert Service Bulletin 767-57A0076, Revision 1, dated March 29, 2001, which was incorporated by reference in AD 2003-13-01, Amendment 39-13201 (68 FR 37402, June 24, 2003), and continues to be incorporated by reference in this AD.

(ii) Boeing Alert Service Bulletin 767-57A0076, Revision 2, dated November 22, 2006, which is not incorporated by reference in this AD.

(iii) Boeing Alert Service Bulletin 767-57A0079, dated June 20, 2002, which was incorporated by reference in AD 2003-13-01, Amendment 39-13201 (68 FR 37402, June 24, 2003), and continues to be incorporated by reference in this AD.

(iv) Boeing Alert Service Bulletin 767-57A0079, Revision 1, dated May 6, 2010, which is not incorporated by reference in this AD.

(3) This paragraph provides credit for actions required by paragraph (j) of this AD, if those actions were performed before the effective date of this AD using the service information identified in paragraph (p)(3)(i) or (p)(3)(ii) of this AD.

(i) Boeing Alert Service Bulletin 767-57A0076, Revision 2, dated November 22, 2006, which is not incorporated by reference in this AD.

(ii) Boeing Alert Service Bulletin 767-57A0079, Revision 1, dated May 6, 2010, which is not incorporated by reference in this AD.

(q) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (r)(1) of this AD. Information may be emailed to 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(4) AMOCs approved previously in accordance with AD 2003-13-01, Amendment 39-13201 (68 FR 37402, June 24, 2003), are approved as AMOCs for the corresponding provisions of paragraphs (g), (h), (i), and (j) of this AD.

(r) Related Information

(1) For more information about this AD, contact Wayne Lockett, Aerospace Engineer, Airframe Branch, ANM-120S, FAA, Seattle Aircraft Certification Office ACO, 1601 Lind Avenue SW., Renton, WA 98057-3356; phone: 425-917-6447; fax: 425-917-6590; email: wayne.lockett@faa.gov.

(2) Service information identified in this AD that is not incorporated by reference is available at the addresses specified in paragraphs (s)(5) and (s)(6) of this AD.

(s) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on November 13, 2015.

(i) Boeing Alert Service Bulletin 767-57A0079, Revision 2, dated March 23, 2012.

(ii) Boeing Alert Service Bulletin 767-57A0076, Revision 3, dated April 4, 2012.

(4) The following service information was approved for IBR on July 29, 2003 (68 FR 37402, June 24, 2003).

(i) Boeing Alert Service Bulletin 767-57A0079, dated June 20, 2002.

(ii) Boeing Service Bulletin 767-57A0076, Revision 1, dated March 29, 2001.

(5) For service information identified in this AD, contact Boeing Commercial Airplanes, Attention: Data & Services Management, P.O. Box 3707, MC 2H-65, Seattle, WA 98124-2207; telephone 206-544-5000, extension 1; fax 206-766-5680; Internet https://www.myboeingfleet.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to http://www.archives.gov/federal-register/cfr/ibr-locations.html.

Issued in Renton, Washington, on September 30, 2015.
Jeffrey E. Duven,
Manager, Transport Airplane Directorate, Aircraft Certification Service.

[FR Doc. 2015-25490 Filed 10-8-15; 8:45 am]

BILLING CODE 4910-13-P